DEPARTMENT OF HEALTH AND HUMAN SERVICES

Food and Drug Administration

[Docket No. FDA-2010-N-0004]

[FDA 225-09-0012]

Memorandum of Understanding Between the Food and Drug Administration and Drugs.Com

AGENCY: Food and Drug Administration, HHS.

ACTION: Notice.

SUMMARY: The Food and Drug Administration (FDA) is providing notice of a memorandum of understanding (MOU) between FDA and Drugs.Com. The purpose of the MOU is to extend the reach of FDA Consumer Health Information and to provide consumers with better information and timely content concerning public health and safety topics, including alerts of emerging safety issues and product recalls.

DATES: The agreement became effective May 26, 2010.

FOR FURTHER INFORMATION CONTACT: Jason Brodsky, Consumer Health Information Staff, Office of External Relations, Food and Drug Administration, 10903 New Hampshire Ave., Bldg. 32, rm. 5378, Silver Spring, MD 20993-0002, 301-796-8234, e-mail: Jason.Brodsky@fda.hhs.gov.

SUPPLEMENTARY INFORMATION: In accordance with 21 CFR 20.108(c), which states that all written agreements and MOUs between FDA and others shall be published in the Federal Register, the agency is publishing notice of this MOU.

Dated: May 17, 2010.
Leslie Kux,
Acting Assistant Commissioner for Policy.

[FR Doc. 2010-12638 Filed 5-25-10; 8:45 am]

BILLING CODE 4160-01-S